SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before April 11, 2022.

ADDRESSES: Send all comments to Rachel Karton, for the Office of Entrepreneurial Development, Small Business Administration, Washington, DC 20416.

FOR FURTHER INFORMATION CONTACT: Rachel Karton, 202-619-1816 or Rachel.newman-karton@sba.gov for the Office of Entrepreneurial Development, Curtis B. Rich, Management Analyst, 202-205-7030 curtis.rich@sba.gov

SUPPLEMENTARY INFORMATION: In accordance with regulations and policy, the Small Business Development Centers (SBDCs) must provide SBA semi-annual financial and programmatic reports outlining expenditures and accomplishments. The information collected will be used to monitor the progress of the program. The Office of Entrepreneurial Development made minor adjustments to the form in number 3), under the heading EXPENSE CATEGORY to align with the SF 424 as follows:

1. Travel is moved from the fifth line to the third line.

2. Equipment is moved from the sixth line to the fourth line.

3. Supplies is moved from the seventh line to the fifth line.

4. Contractual is added as the sixth line.

5. Consultants is moved from the third line to the seventh line.

The remainder of the form stays the same.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0169.

Title: “Federal Cash Transaction Report; Financial Status Report Program Income Report Narrative Program Report”.

Description of Respondents: SBDC Program Stakeholders, including State Directors.

Form Number: 2113.

Annual Responses: 126.

Annual Burden: 7,308.

Curtis Rich,
Management Analyst.

[FR Doc. 2022-02855 Filed 2-9-22; 8:45 am]

BILLING CODE 8026-03-P